DEPARTMENT OF TRANSPORTATION

Federal Railroad Administration

[Docket Number FRA-2018-0052]

Petition for Waiver of Compliance

Under part 211 of Title 49 Code of Federal Regulations (CFR), this provides the public notice that by letter dated June 4, 2018, Norfolk Southern Railway (NS) petitioned the Federal Railroad Administration (FRA) for a waiver of compliance from certain provisions of the Federal railroad safety regulations contained at 49 CFR part 236. FRA assigned the petition Docket Number FRA-2018-0052.

NS seeks a waiver of compliance from cab signal system requirements found in 49 CFR 236.566, Locomotive of each train operating in train stop, train control, or cab signal territory; equipped. Specifically, NS seeks relief to operate non-equipped locomotives in the following locations: Operations on the Conemaugh Line, Pittsburg Division, from control point (CP) Kiski at milepost (MP)-LC 47.8 near Freeport, PA to CP Pennnear near Pittsburgh, PA at MP-LC 77.9, with an absolute block to be established in advance of each non-equipped movement and covering the following operations:

(a) Work Trains, Wreck Trains and Ballast cleaners to and from work.

(b) Engines and rail diesel cars moving to and from shops.

(c) Engines used in switching and transfer service, with or without cars, operating at Restricted Speed not exceeding 15 miles per hour.

NS provides the following justification for relief. First, NS states that “relief is in the public interest,” and is “important to maintaining efficient rail operations in the region.” Second, NS explains exemptions have been granted for the “operation of non-equipped locomotives in cab signal system territory at nearby locations on the NS and the relief requested” is a “consistent extension of those currently granted exceptions.” Moreover, NS states this waiver would update relief previously granted regarding Ex Parte No. 171 by the Interstate Commerce Commission at 286 I. C. C. 709. Finally, NS contends “the requested relief will not have a negative material impact on safety.”

A copy of the petition, as well as any written communications concerning the petition, is available for review online at www.regulations.gov and in person at the U.S. Department of Transportation's Docket Operations Facility, 1200 New Jersey Avenue SE, W12-140, Washington, DC 20590. The Docket Operations Facility is open from 9 a.m. to 5 p.m., Monday through Friday, except Federal Holidays.

Interested parties are invited to participate in these proceedings by submitting written views, data, or comments. FRA does not anticipate scheduling a public hearing in connection with these proceedings since the facts do not appear to warrant a hearing. If any interested party desires an opportunity for oral comment, they should notify FRA, in writing, before the end of the comment period and specify the basis for their request.

All communications concerning these proceedings should identify the appropriate docket number and may be submitted by any of the following methods:

• Website: http://www.regulations.gov. Follow the online instructions for submitting comments.

• Fax: 202-493-2251.

• Mail: Docket Operations Facility, U.S. Department of Transportation, 1200 New Jersey Avenue SE, W12-140, Washington, DC 20590.

•Hand Delivery: 1200 New Jersey Avenue SE, Room W12-140, Washington, DC 20590, between 9 a.m. and 5 p.m., Monday through Friday, except Federal Holidays.

Communications received by September 13, 2018 will be considered by FRA before final action is taken. Comments received after that date will be considered if practicable.

Anyone can search the electronic form of any written communications and comments received into any of our dockets by the name of the individual submitting the comment (or signing the document, if submitted on behalf of an association, business, labor union, etc.). In accordance with 5 U.S.C. 553(c), DOT solicits comments from the public to better inform its processes. DOT posts these comments, without edit, including any personal information the commenter provides, to www.regulations.gov, as described in the system of records notice (DOT/ALL-14 FDMS), which can be reviewed at www.dotransportation.gov/privacy. See also http://www.regulations.gov/#!privacyNotice for the privacy notice of regulations.gov.

Robert C. Lauby,
Associate Administrator for Safety, Chief Safety Officer.

[FR Doc. 2018-16212 Filed 7-27-18; 8:45 am]

BILLING CODE 4910-06-P